ENVIRONMENTAL PROTECTION AGENCY

[FRL-8033-8]

Proposed Agreement for Recovery of Past Costs and Covenant Not To Sue for the Grand Junction Anti-Freeze Site, Grand Junction, CO

ACENCY: Environmental Protection Agency.

ACTION: Notice of proposed agreement; request for public comment.

SUMMARY: In accordance with the requirements of section 122(h)(1) of the Comprehensive Environmental Response Compensation, and Liability Act of 1980, as amended (“CERCLA”), 42 U.S.C. 9622(h)(1), notice is hereby given of the proposed administrative settlement under section 122(h) of CERCLA, 42 U.S.C. 9622(h) between the U.S. Environmental Protection Agency (“EPA”) and Chemical Specialties Incorporated (Chemical Specialties) (collectively, “Settling Parties”). Chemical Specialties consents to and will not contest EPA's authority to enter into this Agreement or to implement or enforce its terms. By entering into this Agreement, the mutual objective of the Settling Parties is to avoid difficult and prolonged litigation by Chemical Specialties making a monetary payment to address its alleged civil liability for the Site.

In return, the Chemical Specialties receives a Covenant Not to Sue by the EPA. The EPA has incurred response costs, starting in January 2003 and extending through June 2004, totaling approximately $239,636.70, and additional response costs from June 2004 to the present. EPA alleges that Chemical Specialties is a responsible party pursuant to Section 107(a) of CERCLA, 42 U.S.C. 9607(a), and is jointly and severally liable for response costs incurred and to be incurred at or in connection with the Site. EPA has reviewed the Financial Information submitted by the Chemical Specialties to determine whether the Chemical Specialties is financially able to pay response costs incurred and to be incurred at the Site. Based upon this Financial Information, and its review completed July 13, 2005, EPA has determined that Chemical Specialties has limited financial ability to pay for response costs incurred and to be incurred at and in connection with the Site.

Chemical Specialties has agreed to pay to the EPA Hazardous Substance Superfund $22,000.00, plus an additional amount for interest. The Settling Parties recognize that this Agreement has been negotiated in good faith and that this Agreement is entered into without the admission or adjudication of any issue of fact or law.

DATES: Comments must be submitted on or before March 20, 2006. For thirty (30) days following the date of publication of this notice, the Agency will receive written comments relating to the agreement. The Agency will consider all comments received and may modify or withdraw its consent to the agreement if comments received disclose facts or considerations that indicate that the agreement is inappropriate, improper, or inadequate.

ADDRESSES: The Agency's response to any comments, the proposed agreement and additional background information relating to the agreement are available for public inspection at the EPA Superfund Record Center, 999 18th Street, Suite 300, 5th Floor, in Denver, Colorado. Comments and requests for a copy of the proposed agreement should be addressed to Michael Rudy, Enforcement Specialist, Environmental Protection Agency—Region 8, Mail Code 8ENF-RC, 999 18th Street, Suite 300, Denver, Colorado 80202-2466, and should reference the Grand Junction Anti-Freeze Site, Grand Junction, Colorado.

FOR FURTHER INFORMATION CONTACT: James Stearns, Legal Enforcement Attorney, Legal Enforcement Program, Environmental Protection Agency—Region 8, Mail Code 8ENF-L, 999 18th Street, Suite 300, Denver, Colorado 80202-2466, (303) 312-6912.

Dated: February 3, 2006.
David Janik,
Acting Assistant Regional Administrator, Office of Enforcement, Compliance and Environmental Justice, Region VIII.

[FR Doc. E6-2278 Filed 2-15-06; 8:45 am]

BILLING CODE 6560-50-P